DEPARTMENT OF HOUSING AND URBAN DEVELOPMENT

[Docket No. FR-4901-N-41]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, ATTN: Teresa Sheinberg, 2100 Second St., SW., Rm 6109, Washington, DC 20593-0001; (202) 267-6142; Energy: Mr. Andy Duran, Department of Energy, Office of Engineering & Construction Management, ME-90, 1000 Independence Ave., SW., Washington, DC 20585: (202) 586-4548; GSA: Mr. Brian K. Polly, Assistant Commissioner, General Services Administration, Office of Property Disposal, 18th and F Streets, NW., Washington, DC 20405; (202) 501-0084; Interior: Ms. Linda Tribby, Acquisition & Property Management, Department of the Interior, 1849 C, NW., MS5512, Washington, DC 20240; (202) 219-0728; Navy: Mr. Charles C. Cocks, Department of the Navy, Real Estate Policy Division, Naval Facilities Engineering Command, Washington Navy Yard, 1322 Patterson Ave., SE., Suite 1000, Washington, DC 20374-5065; (202) 685-9200; (These are not toll-free numbers).

Dated: September 30, 2004.
Mark R. Johnston,
Director, Office of Special Needs Assistance Programs.

Suitable/Available Properties

Title V, Federal Surplus Property Program Federal Register Report for 10/8/2004

Buildings (by State)

California

Agriculture Rsch Service

2021 South Peach Avenue

Fresno Co: CA 93727-

Landholding Agency: GSA

Property Number: 54200430023

Status: Excess

Comment: 17 buildings, 480 sq. ft. to 8726 sq. ft., need rehab, possible asbestos/lead paint/use restrictions, most recent use-office, labs, greenhouses, machine shop

GSA Number: 9-A-CA-1578

Nevada

Quarters 53

Great Basin Natl Park

Baker Co: White Pine NV 89311-

Landholding Agency: Interior

Property Number: 61200430042

Status: Unutilized

Comment: 750 sq. ft. mobile home, off-site use only

Quarters 84

Great Basin Natl Park

Baker Co: White Pine NV 89311-

Landholding Agency: Interior

Property Number: 61200430043

Status: Unutilized

Comment: 750 sq. ft. mobile home, off-site use only

Quarters 85

Great Basin Natl Park

Baker Co: White Pine NV 89311-

Landholding Agency: Interior

Property Number: 61200430044

Status: Unutilized

Comment: 750 sq. ft. mobile home, off-site use only

New York

SSA Building

190 Stone Street

Watertown Co: Jefferson NY 13601-3251

Landholding Agency: GSA

Property Number: 54200430025

Status: Excess

Comment: 6452 sq. ft., needs rehab, most recent use—office, will be vacant Feb. 2005

GSA Number: 1-G-NY-916

Land (by State)

Arizona

1.49 acres

Hurley Ranch

Avondale Co: Maricopa AZ 85353-

Landholding Agency: Interior

Property Number: 61200430046

Status: Excess

Comment: 20 ft. wide irrigation ditch

Idaho

19.5 acres

Teton Dam Site

Newdale Co: Madison ID 83436-

Landholding Agency: Interior

Property Number: 61200430047

Status: Excess

Comment: narrow strip of land, center of irrigated agriculture fields

19.47 acres

Tract C/Section 11

Paul Co: Minidoka ID 83347-

Landholding Agency: Interior

Property Number: 61200430048

Status: Excess

Comment: agriculture/sagebrush

20.07 acres

Section 15; Lots 9-10

Paul Co: Minidoka ID 83347-

Landholding Agency: Interior

Property Number: 61200430049

Status: Excess

Comment: agriculture production/irrigation sprinkler system

California

Bldg. 2

Naval Base

Point Loma Co: CA

Landholding Agency: Navy

Property Number: 77200430054

Status: Excess

Reasons: Within 2000 ft. of flammable or explosive material; Secured Area; Extensive deterioration

4 Bldgs.

Naval Base

Port Hueneme Co: Ventura CA 93043-

Location: PH-1413, PH-1254, PH-1323, PH-1162

Landholding Agency: Navy

Property Number: 77200430055

Status: Unutilized

Reason: Secured Area

Bldg. 03890

Naval Air Weapons Station

China Lake Co: CA 93555-

Landholding Agency: Navy

Property Number: 77200430056

Status: Excess

Reason: Extensive deterioration

8 Bldgs.

Marine Corps Recruit Depot

San Diego Co: CA

Location: 428, 5US1, 5US2, 5US3, 5UT1, 5UT2, 5UT3, 5UX1

Landholding Agency: Navy

Property Number: 77200430083

Status: Unutilized

Reason: Extensive deterioration

Bldg. 1657

Marine Corps Base

Camp Pendleton Co: CA

Landholding Agency: Navy

Property Number: 77200430084

Status: Excess

Reason: Extensive deterioration

Florida

Bldg. 44

Naval Air Station

Jacksonville Co: Duval FL 32212-

Landholding Agency: Navy

Property Number: 77200430057

Status: Unutilized

Reasons: Secured Area; Extensive deterioration

Bldgs. 328, 337

Naval Air Station

Jacksonville Co: Duval FL 32212-

Landholding Agency: Navy

Property Number: 77200430058

Status: Unutilized

Reasons: Secured Area; Extensive deterioration

Bldg. 1754

Naval Air Station

Jacksonville Co: Duval FL 32212-

Landholding Agency: Navy

Property Number: 77200430059

Status: Unutilized

Reasons: Secured Area; Extensive deterioration

Bldg. 1815

Naval Air Station

Pensacola Co: Escambia FL 32508-

Landholding Agency: Navy

Property Number: 77200430060

Status: Unutilized

Reasons: Secured Area; Extensive deterioration

Bldg. 1816

Naval Air Station

Penscola Co: Escambia FL 32508-

Landholding Agency: Navy

Property Number: 77200430061

Status: Unutilized

Reasons: Secured Area; Extensive deterioration

Bldg. 1946

Naval Air Station

Penscola Co: Escambia FL 32508-

Landholding Agency: Navy

Property Number: 77200430062

Status: Unutilized

Reasons: Secured Area; Extensive deterioration

Bldg. 3300

Naval Air Station

Penscola Co: Escambia FL 32508-

Landholding Agency: Navy

Property Number: 77200430063

Status: Unutilized

Reasons: Within 2000 ft. of flammable or explosive material; Secured Area

Bldg. 3662

Naval Air Station

Penscola Co: Escambia FL 32508-

Landholding Agency: Navy

Property Number: 77200430064

Status: Unutilized

Reasons: Secured Area; Extensive deterioration

Idaho

Bldgs. CPP1604-CPP1608

Idaho National Eng & Env Lab

Scoville Co: Butte ID 83415-

Landholding Agency: Energy

Property Number: 41200430071

Status: Excess

Reasons: Secured Area

Bldgs. CPP1617-CPP1619

Idaho National Eng & Env Lab

Scoville Co: Butte ID 83415-

Landholding Agency: Energy

Property Number: 41200430072

Status: Excess

Reasons: Secured Area

6 Bldgs.

Idaho National Eng & Env Lab

Scoville Co: Butte ID 83415-

Location: CPP1631, CPP1634, CPP1635, CPP1636, CPP1637, CPP1638

Landholding Agency: Energy

Property Number: 41200430073

Status: Excess

Reason: Secured Area

5 Bldgs.

Idaho National Eng & Env Lab

Scoville Co: Butte ID 83415-

Location: CPP1642, CPP1643, CPP1644, CPP1646, CPP1649

Landholding Agency: Energy

Property Number: 41200430074

Status: Excess

Reason: Secured Area

3 Bldgs.

Idaho National Eng & Env Lab

Scoville Co: Butte ID 83415-

Location: CPP1650, CPP1651, CPP1656

Landholding Agency: Energy

Property Number: 41200430075

Status: Excess

Reason: Secured Area

5 Bldgs.

Idaho National Eng & Env Lab

Scoville Co: Butte ID 83415-

Location: CPP1662, CPP1663, CPP1671, CPP1673, CPP1674

Landholding Agency: Energy

Property Number: 41200430076

Status: Excess

Reason: Secured Area

5 Bldgs.

Idaho National Eng & Env Lab

Scoville Co: Butte ID 83415-

Location: CPP1678, CPP1682, CPP1683, CPP1684, CPP1686

Landholding Agency: Energy

Property Number: 41200430077

Status: Excess

Reason: Secured Area

5 Bldgs.

Idaho National Eng & Env Lab

Scoville Co: Butte ID 83415-

Location: CPP1713, CPP1749, CPP1750, CPP1767, CPP1769

Landholding Agency: Energy

Property Number: 41200430078

Status: Excess

Reason: Secured Area

5 Bldgs.

Idaho National Eng & Env Lab

Scoville Co: Butte ID 83415-

Location: CPP1770, CPP1771, CPP1772, CPP1774, CPP1776

Landholding Agency: Energy

Property Number: 41200430079

Status: Excess

Reason: Secured Area

4 Bldgs.

Idaho National Eng & Env Lab

Scoville Co: Butte ID 83415-

Location: CPP1778, CPP1779, CPP1780, CPP1784

Landholding Agency: Energy

Property Number: 41200430080

Status: Excess

Reason: Secured Area

4 Bldgs.

Idaho National Eng & Env Lab

Scoville Co: Butte ID 83415-

Location: CPP1789, CPP1790, CPP1792, CPP1794

Landholding Agency: Energy

Property Number: 41200430081

Status: Excess

Reason: Secured Area

Bldgs. CPP2701, CPP2706

Idaho National Eng & Env Lab

Scoville Co: Butte ID 83415-

Landholding Agency: Energy

Property Number: 41200430082

Status: Excess

Reason: Secured Area

New Jersey

Trailer D-33

Plasma Physics Lab

Princeton Co: Merer NJ 08540-

Landholding Agency: Energy

Property Number: 41200430083

Status: Excess

Reason: Extensive deterioration

Oregon

Industrial Warehouse

Yeon Avenue

Portland Co: OR 97210-

Landholding Agency: GSA

Property Number: 54200430024

Status: Surplus

Reason: Within 2000 ft. of flammable or explosive material

GSA Number: 9-G-OR-741

Pennsylvania

Tract 105-17

Dry Run Road

Duncansville Co: Blair PA 16635-

Landholding Agency: Interior

Property Number: 61200430045

Status: Excess

Reason: Extensive deterioration

Bldg. 904

Naval Support Activity

Mechanicsburg Co: Cumberland PA 17055-

Landholding Agency: Navy

Property Number: 77200430066

Status: Excess

Reason: Extensive deterioration

Bldg. 952

Naval Support Activity

Mechanicsburg Co: Cumberland PA 17055-

Landholding Agency: Navy

Property Number: 77200430067

Status: Excess

Reason: Extensive deterioration

Bldg. 953

Naval Support Activity

Mechanicsburg Co: Cumberland PA 17055-

Landholding Agency: Navy

Property Number: 77200430068

Status: Excess

Reason: Extensive deterioration

South Carolina

Bldg. 701-000M

Savannah River Site

Aiken Co: SC 29802-

Landholding Agency: Energy

Property Number: 41200430084

Status: Unutilized

Reason: Secured Area

Bldg. 701-002A

Savannah River Site

Aiken Co: SC 29802-

Landholding Agency: Energy

Property Number: 41200430085

Status: Unutilized

Reason: Secured Area

Bldg. 701-003A

Savannah River Site

Aiken Co: SC 29802-

Landholding Agency: Energy

Property Number: 41200430086

Status: Unutilized

Reason: Secured Area

Bldg. 721-002A

Savannah River Site

Aiken Co: SC 29802-

Landholding Agency: Energy

Property Number: 41200430087

Status: Unutilized

Reason: Secured Area

Bldg. 726-000A

Savannah River Site

Aiken Co: SC 29802-

Landholding Agency: Energy

Property Number: 41200430088

Status: Unutilized

Reason: Secured Area

Tennessee

16 Bldgs.

Naval Support Activity

Millington Co: TN 38054-

Location: 2029, 2031, 2033-2034, 2046-2047, 2083, 2091, 2093, 2097-2098, 2101, 277-278, 1679, 1708

Landholding Agency: Navy

Property Number: 772200430069

Status: Excess

Reason: Secured Area

Texas

Bldgs. 1340, 1341

Naval Air Station

Ft. Worth Co: Tarrant TX 76127-6200

Landholding Agency: Navy

Property Number: 77200430070

Status: Unutilized

Reasons: Within 2000 ft. of flammable or explosive material; Secured Area; Extensive deterioration

Virginia

Bunker 1

CAMSLANT

Virginia Beach Co: Princess Anne VA

Landholding Agency: Coast Guard

Property Number: 88200430001

Status: Unutilized

Reasons: Secured Area; Extensive deterioration

Virginia

Bunker 2

CAMSLANT

Virginia Beach Co: Princess Anne VA

Landholding Agency: Coast Guard

Property Number: 88200430002

Status: Unutilized

Reasons: Secured Area; Extensive deterioration

Bunker 3

CAMSLANT

Virginia Beach Co: Princess Anne VA

Landholding Agency: Coast Guard

Property Number: 88200430003

Status: Unutilized

Reasons: Secured Area; Extensive deterioration

Bunker 4

CAMSLANT

Virginia Beach Co: Princess Anne VA

Landholding Agency: Coast Guard

Property Number: 88200430004

Status: Unutilized

Reasons: Secured Area; Extensive deterioration

Bunker 5

CAMSLANT

Virginia Beach Co: Princess Anne VA

Landholding Agency: Coast Guard

Property Number: 88200430005

Status: Unutilized

Reasons: Secured Area; Extensive deterioration

Washington

Bld. 9

Naval Undersea Warfare

Keyport Co: Kitsap WA 98345-

Landholding Agency: Navy

Property Number: 77200430071

Status: Unutilized

Reasons: Within 2000 ft. of flammable or explosive material; Secured Area

Bld. 183

Naval Undersea Warfare

Keyport Co: Kitsap WA 98345-

Landholding Agency: Navy

Property Number: 77200430072

Status: Unutilized

Reasons: Within 2000 ft. of flammable or explosive material; Secured Area

Bldg. 498

Naval Undersea Warfare

Keyport Co: Kitsap WA 98345-

Landholding Agency: Navy

Property Number: 77200430073

Status: Unutilized

Reasons: Within 2000 ft. of flammable or explosive material; Secured Area

Bldg. 884

Naval Undersea Warfare

Keyport Co: Kitsap WA 98345-

Landholding Agency: Navy

Property Number: 77200430074

Status: Unutilized

Reasons: Within 2000 ft. of flammable or explosive material; Secured Area

Bldg. 1070

Naval Undersea Warfare

Keyport Co: Kitsap WA 98345-

Landholding Agency: Navy

Property Number: 77200430075

Status: Unutilized

Reasons: Within 2000 ft. of flammable or explosive material; Secured Area

Bldg. 5730

Naval Undersea Warfare

Keyport Co: Kitsap WA 98345-

Landholding Agency: Navy

Property Number: 77200430076

Status: Unutilized

Reasons: Within 2000 ft. of flammable or explosive material; Secured Area

Bldg. 5733

Naval Undersea Warfare

Keyport Co: Kitsap WA 98345-

Landholding Agency: Navy

Property Number: 77200430077

Status: Unutilized

Reasons: Within 2000 ft. of flammable or explosive material; Secured Area

Bldg. 5912

Naval Undersea Warfare

Keyport Co: Kitsap WA 98345-

Landholding Agency: Navy

Property Number: 77200430078

Status: Unutilized

Reasons: Within 2000 ft. of flammable or explosive material; Secured Area

Bldgs. 1005, 1006, 1009

Naval Base

Silverdale Co: Kitsap WA 98315-

Landholding Agency: Navy

Property Number: 77200430079

Status: Unutilized

Reasons: Within 2000 ft. of flammable or explosive material; Secured Area

Land (by State)

Arizona

2.56 acres

Chauncy Ranch

Phoenix Co: Maricopa AZ 85054-

Landholding Agency: Interior

Property Number: 61200430050

Status: Excess

Reason: Floodway

California

0.05 acre

Contra Costa Canal

Mile Post 40.26

Pleasant Hill Co: Contra Costa CA 94523-

Landholding Agency: Interior

Property Number: 61200430041

Status: Unutilized

Reason: Landlocked

North Carolina

Portion/Training Area

Marine Corps Base

Camp Lejeune Co: NC

Landholding Agency: Navy

Property Number: 77200430065

Status: Underutilized

Reason: Secured Area

[FR Doc. 04-22371 Filed 10-07-04; 8:45 am]

BILLING CODE 4210-29-M